DEPARTMENT OF COMMERCE

[I.D. 020702C]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Cooperative Game Fish Tagging Report.

Form Number(s): NOAA Form 88-162.

OMB Approval Number: 0648-0247.

Type of Request: Regular submission.

Burden Hours: 360.

Number of Respondents: 12,000.

Average Hours Per Response: 3 minutes.

Needs and Uses: A fish tagging program in the southeastern United States obtains information on fish growth and movement for use in stock assessments and fishery management activities. Persons who voluntarily tag fish, complete the tagging report to show where and when tagging took place and the type of fish tagged.

Affected Public: Individuals or households.

Frequency: On occasion.

Respondent's Obligation: Voluntary.

OMB Desk Officer: David Rostker, (202) 395-3897.

Copies of the above information collection proposal can be obtained by calling or writing Madeleine Clayton, Departmental Paperwork Clearance Officer, (202) 482-3129, Department of Commerce, Room 6086, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: February 6, 2002.
Gwellnar Banks,
Management Analyst, Office of the Chief Information Officer.

[FR Doc. 02-3378 Filed 2-11-02; 8:45 am]

BILLING CODE 3510-22-S